NUCLEAR REGULATORY COMMISSION

[NRC-2009-0282]

Notice of Issuance of Regulatory Guide

AGENCY: Nuclear Regulatory Commission.

ACTION: Notice of Issuance and Availability of Regulatory Guide 1.141, Revision 1.

FOR FURTHER INFORMATION CONTACT: Robert G. Carpenter, U.S. Nuclear Regulatory Commission, Washington, DC 20555-0001, telephone (301) 251-7483 or e-mail to Robert.Carpenter@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of Regulatory Guide 1.141, “Containment Isolation Provisions for Fluid Systems,” was issued with a temporary identification as Draft Regulatory Guide, DG-1213. RG 1.141 describes updated methods that the NRC staff considers acceptable for use in complying with the Commission's requirements for containment isolation of fluid systems. Title 10, of the Code of Federal Regulations, Part 50, “Domestic Licensing of Production and Utilization Facilities”, Appendix A, “General Design Criteria for Nuclear Power Plants,” General Design Criteria 54, 55, 56, and 57 establishes that piping systems that penetrate the primary reactor containment be provided with isolation capabilities that reflect the importance to safety of isolating these piping systems.

II. Further Information

In June 2009, DG-1213 was published with a public comment period of 60 days from the issuance of the guide. The public comment period closed on August 29, 2009. The staff received no public comments. The regulatory analysis may be found through the NRC's Agencywide Documents Access and Management System (ADAMS) under Accession No. ML101870472. Electronic copies of Regulatory Guide 1.141, Revision 1 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 16th day of July 2010.
For the Nuclear Regulatory Commission.
Richard A. Jervey,
Acting Chief, Regulatory Guide Development Branch, Division of Engineering, Office of Nuclear Regulatory Research.

[FR Doc. 2010-18075 Filed 7-22-10; 8:45 am]

BILLING CODE 7590-01-P